Title 3—

The President

Proclamation 10373 of April 22, 2022

Days of Remembrance of Victims of the Holocaust, 2022

By the President of the United States of America

A Proclamation

On Yom HaShoah, Holocaust Remembrance Day, and throughout this week of remembrance, we reflect on the horrors of the Holocaust when the Nazi regime systematically murdered 6 million Jews and millions of other innocents, including Roma, Sinti, Slavs, persons with disabilities, LGBTQI+ individuals, political dissidents, and many others. We stand with Jewish people in the United States, Israel, and around the world in grieving one of the darkest chapters in history. We honor the memories of the victims. We embrace the survivors. We commit to keeping alive the promise of “never again.”

The world must never forget the truth of what happened across Europe during the Holocaust or forget the horrific crimes and suffering the Nazi regime inflicted on millions of innocent people. Entire families were wiped out. Communities were shattered. Survivors were left with agonizing memories and fading tattoos etched into their skin by the Nazis, reducing them to numbers. It is forever recorded into the history of mankind, and it is the shared responsibility of us all to ensure that the Shoah is never erased from our collective memory—especially as fewer and fewer survivors remain. The truth must always be known and shared with future generations in perpetuity.

I have taught my own children and grandchildren about the horrors of the Holocaust, just as my father taught me. I have taken my family to bear witness to the darkness at the Dachau concentration camp so that they could understand why we must always speak out against antisemitism and hatred in all of its pernicious forms. The legacy of the Holocaust must always remind us that silence in the face of such bigotry is complicity.

Remembrance is our eternal duty, but remembrance without action risks becoming an empty ritual. As individuals, we must never be indifferent to human cruelty and human suffering. As nations, we must stand together across the international community against antisemitism, which is once again rearing its ugly head around the world. We must combat other forms of hatred and educate new generations about the Holocaust. We must reject those who try to deny the Holocaust or to distort its history for their own ends. We recognize that, just as the Holocaust was an act of pure antisemitism, so too Holocaust denial is a form of antisemitism. We watch with dismay as the term “Nazi” is deployed to make flawed historical parallels. Efforts to minimize, distort, or blur who the Nazis were and the genocide they perpetrated are a form of Holocaust denial and, in addition to insulting both the victims and survivors of the Holocaust, spread antisemitism.

My Administration has stepped up our efforts to counter all the ugly forms antisemitism can take, including Holocaust denial and distortion. We co-sponsored a United Nations resolution that charged the international community with combating Holocaust denial through education. We are partnering with the German government to improve Holocaust education and counter Holocaust denial and distortion. A renowned scholar of the Holocaust and antisemitism, Deborah Lipstadt, was recently confirmed as Special Envoy to Monitor and Combat Antisemitism.

In addition to speaking out against the evils of antisemitism, I signed—and my Administration continues to implement—legislation that gives us more tools to combat crimes that are based on a victim's actual or perceived race, religion, national origin, sexual orientation, gender, gender identity or disability. We issued the first-ever National Strategy for Countering Domestic Terrorism. My Administration has implemented increased funding for a program that helps threatened nonprofits—including houses of worship and other religious affiliated entities—to improve their safety and security. On International Holocaust Remembrance Day, I met with Bronia Brandman and the Vice President met with Ruth Cohen—both Auschwitz survivors—at the White House so we could bear witness to their stories, combat Holocaust denial and distortion, and give life to the lessons of that most terrible period in human history.

Those like Bronia and Ruth who survived the Holocaust and went on to build new lives inspire our Nation and the world, and they are living testaments to the enduring resilience of the human spirit. It is the responsibility of all of us to recognize the pain that they carry and to support them by ensuring that the cruelty of the Holocaust is never forgotten. Today and every day, we stand against antisemitism and all other forms of hate and continue our work to ensure that everyone can live in a world that safeguards the fundamental human dignity of all people.

NOW, THEREFORE, I, JOSEPH R. BIDEN JR., President of the United States of America, by virtue of the authority vested in me by the Constitution and the laws of the United States, do hereby proclaim April 24 through May 1, 2022, as a week of observance of the Days of Remembrance of Victims of the Holocaust, and call upon the people of the United States to observe this week and pause to remember victims and survivors of the Holocaust.

IN WITNESS WHEREOF, I have hereunto set my hand this twenty-second day of April, in the year of our Lord two thousand twenty-two, and of the Independence of the United States of America the two hundred and forty-sixth.

[FR Doc. 2022-09132

Filed 4-26-22; 8:45 am]

Billing code 3395-F2-P